DEPARTMENT OF THE INTERIOR

Bureau of Land Management

[L19200000.AL0000.LRORB1518600.LLCAD06000.15X; CACA-044081]

Public Land Order No. 7846; Transfer of Administrative Jurisdiction, Chocolate Mountain Aerial Gunnery Range; California

AGENCY: Bureau of Land Management, Interior.

ACTION: Public land order.

SUMMARY: This order transfers administrative jurisdiction of 501.43 acres of public lands from the Secretary of the Interior to the Secretary of Navy for the realignment of the Chocolate Mountain Aerial Gunnery Range boundary in Riverside County, California. This transfer of administrative jurisdiction is directed by the National Defense Authorization Act for Fiscal Year 2014.

DATES: Effective Date: December 25, 2015.

FOR FURTHER INFORMATION CONTACT: John R. Kalish, Bureau of Land Management, Palm Springs South Coast Field Office, 1201 Bird Center Drive, Palm Springs, CA 92262, 760-833-7100. Persons who use a telecommunications device for the deaf (TDD) may call the Federal Information Relay Service (FIRS) at (800) 877-8339 to reach the above contact. The FIRS is available 24 hours a day, 7 days a week, to leave a message or question with the above individual. You will receive a reply during normal business hours.

SUPPLEMENTARY INFORMATION: The National Defense Authorization Act for Fiscal Year 2014, Public Law 113-66, directs the realignment of the Chocolate Mountain Aerial Gunnery Range boundary to include the lands described in this order.

Order

By virtue of the authority vested in the Secretary of the Interior by Public Law 113-66, 127 Stat. 1040, it is ordered as follows:

1. Subject to valid existing rights, the administrative jurisdiction of the following described public lands is hereby transferred from the Secretary of the Interior to the Secretary of the Navy for the realignment of the Chocolate Mountain Aerial Gunnery Range boundary:

San Bernardino Meridian, California

T.7S., R.12E.,

Sec. 34, lots 10 thru 12;

Sec. 35, lots 10 thru 13;

Sec. 36, lot 9.

T.7S., R.13E.,

Sec. 13, lots 6 and 8, and SE¼SE¼;

Sec. 14, lots 5, 6, and 8, and SE¼SE¼;

Sec. 22, lot 16;

Sec. 31, lots 7, 14, 17, 20, and 24.

T.7S., R.14E.,

Sec. 18, lots 4, 7, 10, 11, and 14;

Sec. 19, lots 7, 16, and 18;

Sec. 20, lots 5 and 9.

T.7S., R.15E.,

Sec. 30, lot 7.

T.8S., R.16E.,

Sec. 9, lots 3, 6, 9, and 12.

The area described aggregates 501.43 acres.

2. The lands described above are to be administered as part of the Chocolate Mountain Aerial Gunnery Range in accordance with the provisions in Public Law 113-66.

Dated: December 21, 2015.
Janice M. Schneider,
Assistant Secretary—Land and Minerals Management.

[FR Doc. 2015-32561 Filed 12-23-15; 8:45 am]

BILLING CODE 4310-40-P